DEPARTMENT OF AGRICULTURE

Forest Service

Forest Service Manual 2470, Silvicultural Practices

AGENCY: Forest Service, Agriculture (USDA).

ACTION: Notice of availability for public comment, correction.

SUMMARY: The United States Department of Agriculture, Forest Service (Agency), published a document in the Federal Register on July 16, 2024, concerning Notice of availability for public comment for the Forest Service Manual 2470, Silvicultural Practices. The document contained incorrect links to access the reading room and to make a comment.

SUPPLEMENTARY INFORMATION:

Correction

In the Federal Register of August 16, 2024, in FR Doc. 2024-18353, on Pages 66671-66672 in the second column, correct under the DATES and ADDRESSESS caption to read:

DATES: Comments must be received in writing by October 28, 2024.

ADDRESSESS: Comments may be submitted electronically to https://cara.fs2c.usda.gov/Public/CommentInput?project=Directives-4178. Written comments may be mailed to Stephanie Miller, Assistant Director for Future Forest, Denver Federal Center, Building 40 Lakewood, CO 80215. All timely received comments, including names and addresses, will be placed in the record and will be available for public inspection and copying. The public may inspect comments received at https://cara.fs2c.usda.gov/Public/ReadingRoom?project=Directives-4178.

Dated: August 26, 2024.
Steve Morse,
Liaison.

[FR Doc. 2024-18797 Filed 8-28-24; 8:45 am]

BILLING CODE 3411-15-P